DEPARTMENT OF TRANSPORTATION

Federal Aviation Administration

14 CFR Part 95

[Docket No. 31264; Amdt. No. 547]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, August 15, 2019.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on July 12, 2019.
Rick Domingo,
Executive Director, Flight Standards Service.

Adoption of the Amendment

Accordingly, pursuant to the authority delegated to me by the Administrator, part 95 of the Federal Aviation Regulations (14 CFR part 95) is amended as follows effective at 0901 UTC, August 15, 2019.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 547 Effective date August 15, 2019]
From | To | MEA
§ 95.6001 Victor Routes-U.S
§ 95.6004 VOR Federal Airway V4 Is Amended To Read in Part
* POCKET CITY, IN VORTAC | LAMBS, IN FIX
*3600—MCA | W BND | 2500
| E BND | 10000
POCKET CITY, IN | VORTAC, E BND
LAMBS, IN FIX | *LOUISVILLE, KY VORTAC | **10000
*10000—MCA LOUISVILLE, KY | VORTAC, W BND
**3000—GNSS MEA
LOUISVILLE, KY VORTAC | LEXINGTON, KY VOR/DME | 2800
LEXINGTON, KY VOR/DME | NEWCOMBE, KY VORTAC | 3100
§ 95.6007 VOR Federal Airway V7 Is Amended To Read in Part
WIREGRASS, AL VORTAC | SKIPO, AL FIX | 2300
SKIPO, AL FIX | *BANBI, AL FIX | **4000
*4000—MCA | BANBI, AL FIX, SE BND
**1900—MOCA
**2300—GNSS MEA
BANBI, AL FIX | MONTGOMERY, AL VORTAC | 2400
MONTGOMERY, AL VORTAC | VULCAN, AL VORTAC | 3100
§ 95.6008 VOR Federal Airway V8 Is Amended To Delete
BRIGGS, OH VOR/DME | ATWOO, OH FIX | *4000
*3100—MOCA
*3100—GNSS MEA
ATWOO, OH FIX | BELLAIRE, OH VOR/DME | *6000
*3000—MOCA
BELLAIRE, OH VOR/DME | *GALLS, PA FIX | 3600
*5000—MCA | GALLS, PA FIX, E BND
GALLS, PA FIX | GRANTSVILLE, MD VOR/DME | 5500
GRANTSVILLE, MD VOR/DME | MARTINSBURG, WV VORTAC | 5500
§ 95.6012 VOR Federal Airway V12 Is Amended To Read in Part
COLUMBIA, MO VOR/DME | STITH, MO FIX | *4000
*2200—MOCA
STITH, MO FIX | FORISTELL, MO VORTAC | *3000
*2500—MOCA
FORISTELL, MO VORTAC | TROY, IL VORTAC | *2600
*2100—MOCA
§ 95.6018 VOR Federal Airway V18 Is Amended To Delete
GUTHRIE, TX VORTAC | BEKLE, TX FIX
*3400—MOCA | NW BND | *6000
| SE BND | *8000
BEKLE, TX FIX | MILLSAP, TX VORTAC | *8000
*3500—MOCA
§ 95.6078 VOR Federal Airway V78 Is Amended To Delete
ESCANABA, MI VOR/DME | SCHOOLCRAFT COUNTY, MI VOR/DME | 2500
SCHOOLCRAFT COUNTY, MI VOR/DME | PELLSTON, MI VORTAC | 2600
§ 95.6092 VOR Federal Airway V92 Is Amended To Delete
BELLAIRE, OH VOR/DME | *GALLS, PA FIX | 3600
*5000—MCA | GALLS, PA FIX, E BND
GALLS, PA FIX | GRANTSVILLE, MD VOR/DME | 5500
GRANTSVILLE, MD VOR/DME | KEYER, WV FIX | 5500
KEYER, WV FIX | ARMEL, VA VOR/DME | 5000
§ 95.6102 VOR Federal Airway V102 Is Amended To Delete
LUBBOCK, TX VORTAC | GUTHRIE, TX VORTAC | 5000
GUTHRIE, TX VORTAC | *SNEED, TX FIX | **3700
*4000—MRA
**3000—MOCA
*SNEED, TX FIX | **ELECT, TX FIX | 2700
*4000—MRA
**3500—MRA
*ELECT, TX FIX | WICHITA FALLS, TX VORTAC | 2700
*3500—MRA
§ 95.6184 VOR Federal Airway V184 Is Amended To Read in Part
DELRO, PA FIX | *MODENA, PA VORTAC | **10000
*10000—MCA | MODENA, PA VORTAC, W BND
**4000—GNSS MEA
95.6214 VOR Federal Airway V214 Is Amended To Delete
BELLAIRE, OH VOR/DME | GALLS, PA FIX | 3600
*5000—MCA | GALLS, PA FIX, E BND
GALLS, PA FIX | GRANTSVILLE, MD VOR/DME | 5500
GRANTSVILLE, MD VOR/DME | MARTINSBURG, WV VORTAC | 5500
§ 95.6224 VOR Federal Airway V224 Is Amended To Delete
SAWYER, MI VOR/DME | SCHOOLCRAFT COUNTY, MI VOR/DME | *3500
*2600—MOCA
§ 95.6275 VOR Federal Airway V275 Is Amended To Read in Part
CINCINNATI, KY VORTAC | DAYTON, OH VOR/DME | 3000
§ 95.6278 VOR Federal Airway V278 Is Amended To Delete
PLAINVIEW, TX VOR/DME | GUTHRIE, TX VORTAC | *5100
*4600—MOCA
GUTHRIE, TX VORTAC | NIFDE, TX WP | *4500
*3300—MOCA
NIFDE, TX WP | BOWIE, TX VORTAC | *4500
*2600—MOCA
*3300—GNSS MEA
§ 95.6295 VOR Federal Airway V295 Is Amended To Read in Part
VIRGINIA KEY, FL VOR/DME | HEATT, FL FIX | *5000
*2100—MOCA
HEATT, FL FIX | *BLUFI, FL FIX | **6000
*6000—MCA | BLUFI, FL FIX, S BND
**2000—MOCA
BLUFI, FL FIX | STOOP, FL FIX | *5000
*2000—MOCA
§ 95.6306 VOR Federal Airway V306 Is Amended To Read in Part
JUNCTION, TX VORTAC | *AMUSE, TX FIX | **7000
*5000—MCA | AMUSE, TX FIX, E BND
**5000—MOCA
AMUSE, TX FIX | CENTEX, TX VORTAC | *3300
*2900—MOCA
CENTEX, TX VORTAC | NAVASOTA, TX VOR/DME | 2400
ZMSKL, TX FIX | CLEEP, TX FIX | *5000
*2400—MOCA
CLEEP, TX FIX | DAISETTA, TX VORTAC | 3100
DAISETTA, TX VORTAC | KUUPR, TX FIX
| W BND | 2300
| E BND | 2800
KUUPR, TX FIX | OFERS, LA FIX | 2800
95.6352 VOR Federal Airway V352 Is Amended To Delete
U.S. CANADIAN BORDER | *PATTA, ME FIX | 6300
*10000—MRA
HOULTON, ME VOR/DME | U.S. CANADIAN BORDER | 2000
§ 95.6404 VOR Federal Airway V404 Is Amended To Read in Part
CHILDRESS, TX VORTAC | *SNEED, TX FIX | 4700
*5000—MRA
*SNEED, TX FIX | WICHITA FALLS, TX VORTAC
| E BND | 3000
| W BND | 4700
*5000—MRA
§ 95.6430 VOR Federal Airway V430 Is Amended To Read in Part
WILLISTON, ND VOR/DME | MINOT, ND VORTAC | *6000
*3900—MOCA
§ 95.6438 VOR Federal Airway V438 Is Amended To Delete
GRANTSVILLE, MD VOR/DME | FLINT, MD FIX | 6000
FLINT, MD FIX | TOMAC, WV FIX
| E BND | 4000
| W BND | 6000
TOMAC, WV FIX | HAGERSTOWN, MD VOR | 4000
§ 95.6474 VOR Federal Airway V474 Is Amended To Read in Part
DELRO, PA FIX | *MODENA, PA VORTAC | **10000
*10000—MCA | MODENA, PA VORTAC, W BND
**4000—GNSS MEA
§ 95.6491 VOR Federal Airway V491 Is Amended To Read in Part
DICKINSON, ND VORTAC | MINOT, ND VORDME | *6000
*4400—MOCA
§ 95.6521 VOR Federal Airway V521 Is Amended To Read in Part
WIREGRASS, AL VORTAC | SKIPO, AL FIX | 2300
SKIPO, AL FIX | *BANBI, AL FIX | **4000
*4000—MCA | BANBI, AL FIX, SE BND
**1900—MOCA
**2300—GNSS MEA
BANBI, AL FIX MONTGOMERY, AL VORTAC 2400
§ 95.6565 VOR Federal Airway V565 Is Amended To Read in Part
LLANO, TX VORTAC | AMUSE, TX FIX | 3500
AMUSE, TX FIX | CENTEX, TX VORTAC | 3300
*2900—MOCA
CENTEX, TX VORTAC | COLLEGE STATION, TX VORTAC | 2400

Airway Segment: From | Airway Segment: To | Changeover Points: Distance | Changeover Points: From
§ 95.8005 Jet Routes Changeover Points
J153 Is Amended To Add Changeover Point
ROME, OR VOR/DME | BAKER CITY, OR VOR/DME | 120 | ROME.

[FR Doc. 2019-15238 Filed 7-16-19; 8:45 am]

BILLING CODE 4910-13-P